DEPARTMENT OF AGRICULTURE

Forest Service

[0511-10-01]

Plumas County Resource Advisory Committee (RAC)

AGENCY: Forest Service, USDA.

ACTION: Notice of meeting.

SUMMARY: The Plumas County Resource Advisory Committee (RAC) will hold a meeting on November 13, 2009, in Quincy, CA. The purpose of the meeting is to review approved Cycle 9 projects and to identify a timeline for the Cycle 10 project application process. Project funding is available under Title II provisions of the Secure Rural Schools and Community Self-Determination Act of 2000.

DATES AND ADDRESSES: The meeting will take place from 9:30-11:30 a.m. at the Mineral Building-Plumas/Sierra County Fairgrounds, 208 Fairgrounds Road, Quincy, CA.

FOR FURTHER INFORMATION CONTACT: (or for special needs): Lee Anne Schramel Taylor, Forest Coordinator, USDA, Plumas National Forest, P.O. Box 11500/159 Lawrence Street, Quincy, CA, 95971; (530) 283-7850; or by e-mail eataylor@fs.fed.us.

SUPPLEMENTARY INFORMATION: Agenda items for the November 13 meeting include: (1) Forest Service Update; (2) Committee Review of Cycle 9 projects approved for funding; and, (3) Identification of Cycle 10 Project Application Timeline. The meetings are open to the public and individuals may address the Committee after being recognized by the Chair. Other RAC information may be obtained at: http://www.fs.fed.us/srs.

Dated: October 27, 2009.
Mark Beaulieu,
Public Services Staff Officer.

[FR Doc. E9-26482 Filed 11-3-09; 8:45 am]

BILLING CODE M